ELECTION ASSISTANCE COMMISSION

Sunshine Act Notice

AGENCY: Election Assistance Commission.

ACTION: Notice of public hearing.

Date and Time: Wednesday, February 23, 2005, 1 p.m.-5p.m.

Place: Michael E. Moritz College of Law, The Ohio State University, 55 W. 12th Ave., Saxbe Auditorium, Columbus, OH 43210-1391.

Agenda: The Commission will conduct a public hearing to identify the successes and problems involved with the use of provisional voting.

The following witness panels will be presented: Election Officials, Advocacy Organizations/Non-government Sector and Academics.

All public comments will be taken in writing via e-mail at testimony@eac.gov, or at the meeting or via mail addressed to the U.S. Election Assistance Commission, 1225 New York Ave., NW., Suite 1100, Washington, DC 20005.

FUR FURTHER INFORMATION CONTACT: Bryan Whitener, Telephone: (202) 566-3100.

Ray Martinez III,
Commissioner, U.S. Election Assistance Commission.

[FR Doc. 05-2563 Filed 2-7-05; 9:02 am]

BILLING CODE 6820-YN-M